DEPARTMENT OF HEALTH AND HUMAN SERVICES

Centers for Disease Control and Prevention

[30Day-22-1046]

Agency Forms Undergoing Paperwork Reduction Act Review

In accordance with the Paperwork Reduction Act of 1995, the Centers for Disease Control and Prevention (CDC) has submitted the information collection request titled National Breast and Cervical Cancer Early Detection Program (NBCCEDP) Monitoring Activities to the Office of Management and Budget (OMB) for review and approval. CDC previously published a “Proposed Data Collection Submitted for Public Comment and Recommendations” notice on July 26, 2021 to obtain comments from the public and affected agencies. CDC received one non-substantive comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Breast and Cervical Cancer Early Detection Program (NBCCEDP) Monitoring Activities—(OMB Control No. 0920-1046, Exp. 11/30/2021)—Revision—National Center for Chronic Disease Prevention and Health Promotion (NCCDPHP), Centers for Disease Control and Prevention (CDC).

Background and Brief Description

CDC is requesting a Revision of the Information Collection Request (ICR) titled National Breast and Cervical Cancer Early Detection Program (NBCCEDP) Monitoring Activities (OMB Control No. 0920-1046). In the previous OMB approval period, information collection consisted of an annual NBCCEDP survey and clinic-level data collection. In the next OMB approval period, information collection will consist of a revised NBCCEDP survey, revised clinic-level data collection, new quarterly program update, new service delivery projection worksheet, and the addition of previously approved minimum data elements (MDEs; OMB Control No. 0920-0571, Exp. 03/31/2022) to increase efficiency. The number of respondents will remain the same and the total estimated annualized burden will increase from 683 to 1,228.

Breast and cervical cancers are prevalent among U.S. women. Evidence shows that deaths from both breast and cervical cancers can be avoided by increasing screening services—mammography and pap tests—among women. However, screening is typically underutilized among women who are under- or uninsured, have no regular source of healthcare, or who recently immigrated to the U.S. To improve access to cancer screening, Congress passed the Breast and Cervical Cancer Mortality Prevention Act of 1990 (Pub. L. 106-354) which directed CDC to create the National Breast and Cervical Cancer Early Detection Program (NBCCEDP). The NBCCEDP currently provides funding to 70 awardees under “Cancer Prevention and Control Programs for State, Territorial, and Tribal Organizations (DP17-1701).” The purpose of NBCCEDP is to increase breast and cervical cancer screening rates among women residing within defined geographical locations (as determined by the funded program) who are at or below 250% of the federal poverty level; aged 40-64 years for breast cancer services, and aged 21-64 years for cervical cancer services; and under- or uninsured.

In 2022, CDC will issue a new Notice of Funding Opportunity (DP22-2202) to continue this mission. Consistent with programmatic changes, the information collection plan has also been redesigned to update existing and add new data collection instruments and integrate the previously approved MDEs into this single approval package to increase efficiency of information collection for the NBCCEDP.

CDC proposes five forms of information collection. First, the NBCCEDP Survey will be submitted to CDC annually and collects information to monitor awardees' TA needs, partnerships, screening delivery, EBI implementation, and COVID-19 impact. Minor revisions to survey questions, response options, and formatting will be included under DP22-2202. Second, clinic-level data will be submitted to CDC at baseline and annually for all partnering health system clinic sites—an estimated six clinics per awardee for breast cancer data and six clinics per awardee for cervical cancer data. Clinic-level data includes health system, clinic, and patient population characteristics; monitoring and quality improvement activities; EBI implementation; COVID-19 impact, and baseline or annual screening rates. Minor revisions were made to variable wording, formatting (e.g., split or combined variables), and response options to improve data quality. Third, the Quarterly Program Update (QPU) will be submitted to CDC four times per year to monitor award spending, service delivery, staff vacancies, and program accomplishments and challenges. This is a new information collection. Fourth, the Service Delivery Projection Worksheet will be submitted to CDC annually to report the estimated number of women to be served for breast and cervical cancer. Finally, the Minimum Data Elements (MDEs) will be submitted to CDC twice per year to monitor patient demographics; breast and cervical cancer screening, diagnosis, and treatment; timeliness of services; and patient navigation. This information collection was previously approved (OMB Control No. 0920-0571, Exp. 03/30/2022) and will now be incorporated into this OMB approved package for increased efficiency for NBCCEDP information collection efforts.

This revised information collection will allow CDC to provide routine monitoring feedback to awardees based on their data submissions, tailor technical assistance (TA) as needed, support program planning, and assess program outcomes. OMB approval is requested for three years. Participation is required for NBCCEDP awardees. There are no costs to respondents other than their time. The total estimated annual burden is 1,228 hours.

Estimated Annualized Burden Hours
Type of respondent | Form name | Number of respondents | Number of responses per respondent | Average burden per response (in hrs)
NBCCEDP Awardees | Annual NBCCEDP Survey | 70 | 1 | 56/60
| NBCCEDP Clinic-level Information Collection Instrument—Breast | 70 | 6 | 45/60
| NBCCEDP Clinic-level Information Collection Instrument—Cervical | 70 | 6 | 45/60
| Quarterly Program Update | 70 | 4 | 32/60
| Service Delivery Projection Worksheet | 70 | 1 | 29/60
| MDEs | 70 | 2 | 150/60

Jeffrey M. Zirger,
Lead, Information Collection Review Office, Office of Scientific Integrity, Office of Science, Centers for Disease Control and Prevention.

[FR Doc. 2021-24989 Filed 11-15-21; 8:45 am]

BILLING CODE 4163-18-P